DEPARTMENT OF HOMELAND SECURITY

Coast Guard

[Docket No. USCG-2021-0235]

National Navigation Safety Advisory Committee; June, 2021 Teleconference

AGENCY: U.S. Coast Guard, Department of Homeland Security.

ACTION: Notice of Federal Advisory Committee teleconference meeting.

SUMMARY: The National Navigation Safety Advisory Committee (Committee) will meet via teleconference to discuss matters relating to maritime collisions, rammings, and groundings; Inland Rules of the Road; International Rules of the Road; navigation regulations and equipment; routing measures; marine information; and aids to navigation systems. The meeting will be open to the public.

DATES: Meeting: The National Navigation Safety Advisory Committee will meet by teleconference on Tuesday, June 8, 2021, from 9 a.m. until 12:30 p.m. (EDT). The teleconference may adjourn early if the Committee has completed its business.

Comments and supporting documentation: To ensure your comments are received by Committee members before the teleconference, submit your written comments no later than June 1, 2021.

ADDRESSES: To access the teleconference line, dial (202) 475-4000 and use participant code 78281729#. To request special accommodations, contact the individual listed in the FOR FURTHER INFORMATION CONTACT section no later than 1 p.m. on June 1, 2021 to obtain the needed information.

Instructions: You are free to submit comments at any time, including orally at the teleconference as time permits, but if you want Committee members to review your comment before the teleconference, please submit your comments no later than June 1, 2021. We are particularly interested in comments on the issues in the “Agenda” section below. We encourage you to submit comments through the Federal eRulemaking Portal at https://www.regulations.gov. If your material cannot be submitted using https://www.regulations.gov, call or email the individual in the FOR FURTHER INFORMATION CONTACT section of this document for alternate instructions. You must include the docket number [USCG-2021-0235]. Comments received will be posted without alteration at http://www.regulations.gov, including any personal information provided. For more about privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments will be in our online docket at https://www.regulations.gov and can be viewed by following that website's instructions. Additionally, if you go to the online docket and sign-up for email alerts, you will be notified when comments are posted.

FOR FURTHER INFORMATION CONTACT: Mr. George Detweiler, Alternate Designated Federal Officer of the National Navigation Safety Advisory Committee, telephone 202-372-1566 or email george.h.detweiler@uscg.mil.

SUPPLEMENTARY INFORMATION: Notice of this meeting is in compliance with the Federal Advisory Committee Act, 5 U.S.C. Appendix. The National Navigation Safety Advisory Committee Meeting is authorized by § 601 of the Frank LoBiondo Coast Guard Authorization Act of 2018. The statutory authority is codified in 46 U.S.C. 15107. The Committee operates under the provisions of the Federal Advisory Committee Act (5 U.S.C. Appendix) in addition to the administrative provisions applicable to all National Maritime Transportation Advisory Committees in 46 U.S.C. 15109. The Committee advises the Secretary of the Department of Homeland Security through the Commandant of the Coast Guard on matters relating to maritime collisions, rammings, and groundings; Inland Rules of the Road; International Rules of the Road; navigation regulations and equipment; routing measures; marine information; and aids to navigation systems.

Agenda

The agenda for the June 8, 2021, teleconference is as follows:

(1) Introduction.

(2) Designated Federal Officer remarks.

(3) Introduction, roll call of Committee members and determination of a quorum.

(4) Remarks from U.S. Coast Guard Leadership.

(5) Swearing in of Committee members.

(6) Election by Committee members of Chair and Vice Chair.

(7) Members Roles and Responsibilities.

(8) Public comment period.

(9) Closing remarks/plans for next meeting.

(10) Adjournment of meeting.

A copy of all meeting documentation will be available at https://homeport.uscg.mil/missions/federal-advisory-committees/national-navigation-safety-advisory-committee-(NNAVSAC) no later than June 1, 2021. Alternatively, you may contact Mr. George Detweiler as noted in the FOR FURTHER INFORMATION CONTACT section above. During the June 8, 2021 teleconference, a public comment period will be held immediately after the discussion on Members Roles and Responsibilities at approximately 12:15 p.m. Public comments will be limited to two minutes per speaker. Please note that the public comments period will end following the last call for comments. Please contact the individual listed in the FOR FURTHER INFORMATION CONTACT section, to register as a speaker.

Dated: May 18, 2021.
Michael D. Emerson,
Director, Marine Transportation Systems.

[FR Doc. 2021-10789 Filed 5-20-21; 8:45 am]

BILLING CODE 9110-04-P